DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Survey of Coastal Managers to Assess Needs for Ecological Forecasts.

OMB Control Number: None.

Form Number(s): NA.

Type of Request: Regular submission (request for a new information collection).

Number of Respondents: 100.

Average Hours per Response: 20 minutes.

Burden Hours: 33.

Needs and Uses: This request is for a new survey of coastal managers to determine their needs and potential uses for ecological forecasts or scenarios. Coastal managers would be staff from state agencies who deal with issues such as coastal water quality and habitat management. The survey will be conducted under a cooperative agreement between the NOAA National Centers for Coastal Ocean Science (NCCOS) and HDR, Inc., an environmental consulting firm. NOAA has a long history of conducting operational modeling and forecasting, mostly in the National Weather Service for weather and climate and the National Ocean Service for tides and currents. Expanding this capacity to include forecasting of ecological trends and conditions can be critical to many coastal management applications. This survey will help to assess coastal managers' needs for ecological forecasts and scenarios, and how such forecasts may be used in management contexts.

Affected Public: State, local or tribal governments, not-for-profit institutions.

Frequency: One time.

Respondent's Obligation: Voluntary.

OMB Desk Officer: OIRA_Submission@omb.eop.gov.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to OIRA_Submission@omb.eop.gov.

Dated: June 19, 2013.
Gwellnar Banks,
Management Analyst, Office of the Chief Information Officer.

[FR Doc. 2013-14994 Filed 6-21-13; 8:45 am]

BILLING CODE 3510-JS-P